DEPARTMENT OF STATE

[Public Notice 3651]

Bureau of Oceans and International Environmental and Scientific Affairs (OES); Public Meeting To Discuss Progress on International Harmonization of Chemical Hazard Classification and Labeling Systems

SUMMARY: The United States Government is preparing for a series of international meetings to further develop a globally harmonized system (GHS) of chemical hazard classification and labeling. The Department of State will hold a public meeting to report on recent activities and preview upcoming meetings.

The public meeting will take place on Tuesday, May 8, 2001, from 1:00-3:00 PM in Room N4437 A,B&C at the Department of Labor, 200 Constitution Avenue NW., Washington, DC. Attendees should use the entrance at C and Third Streets NW. and should bring picture identification with them. No advance registration is necessary. For further information, please contact Marie Ricciardone, Department of State, Office of Environmental Policy; telephone (202)736-4660; fax (202)647-5947; email ricciardonemd@state.gov.

SUPPLEMENTARY INFORMATION: The Department of State is issuing this notice to help ensure that interested organization and individuals are aware of and knowledgeable about the effort to internationally harmonize chemical hazard classification and labeling, and have an opportunity to offer comments. Agencies participating in the U.S. Government interagency group include: Department of State, Environmental Protection Agency, Department of Transportation, Occupational Safety and Health Administration, Consumer Product Safety Commission, Food and Drug Administration, Department of Commerce, Department of Agriculture, Office of the U.S. Trade Representative, and National Institute of Environmental Health Sciences. For more complete information on the GHS process, please refer to State Department Public Notice 2526, pages 15951-15957 of the Federal Register of April 3, 1997.

This public meeting will provide an update on GHS activities and international meetings since the previous public meeting on October 24, 2000 (see Department of State Public Notice 3341 on pages 61019-61020 of the Federal Register of October 13, 2000), including:

• Sixth Meeting of the International Labor Organization Working Group for the Harmonization of Chemical Hazard Communication, October 30-November 2, 2000, Rome, Italy.

• Seventeenth Consultation of the Inter-Organization Program for the Sound Management of Chemicals (IOMC) Coordinating Group for the Harmonization of Chemical Classification Systems, November 2-3, 2000, Rome, Italy.

• Twenty-first Session of the United Nations Committee of Experts on the Transport of Dangerous Goods, December 5-14, 2000, Geneva, Switzerland.

• Activities of the Organization for Economic Cooperation and Development (OECD) Task Force on Harmonization of Classification and Labeling. The Task Force is completing classification criteria for aquatic toxicity and skin/eye irritation/corrosion for chemical mixtures. It is also initiating work on aspiration hazards, water-activated toxicity, and respiratory irritation.

Members of the interagency group will also provide an overview of the U.S. preparations for upcoming international meetings, including:

• Seventh Meeting of the International Labor Organization Working Group for the Harmonization of Chemical Hazard Communication, May 21-24, 2001, Geneva, Switzerland. At this group's final meeting, participants will try to achieve consensus on GHS hazard communication, including standardized label elements (e.g., symbols and signal words) and a standardized format for material safety data sheets used in the workplace.

• Eighteenth Consultation of the Inter-Organization Program for the Sound Management of Chemicals (IOMC) Coordinating Group for the Harmonization of Chemical Classification Systems, May 24-25, 2001, Geneva, Switzerland. The IOMC will develop GHS guidance and try to achieve consensus on the initial GHS package. The group will also discuss plans for the first organizational meeting of the GHS subcommittee of experts, under the UN Economic and Social Council, July 9-11, 2001, in Geneva, Switzerland.

• Nineteenth Session of the United Nations Subcommittee of Experts on the Transport of Dangerous Goods, July 2-6, Geneva, Switzerland. This meeting will focus on classification criteria for aerosol flammability.

Interested organizations and individuals are invited to present their views orally and/or in writing at the public meeting. Those organization/individuals that cannot attend the May 8 meeting may submit written comments to Marie Ricciardone, Department of State, OES/ENV Room 4325, 2201 C Street NW., Washington, DC 20520. Comments will be placed in the OSHA public docket (H-022H), which is open from 10 AM until 4 PM, at the Department of Labor, Room 2625, 200 Constitution Avenue NW., Washington, DC. (Telephone: (202) 219-7894; Fax: (202) 219-5046). Interested organizations/individuals that wish to receive future notifications of GHS-related developments by email should contact Mary Frances Lowe at lowe.maryfrances@epa.gov.

Dated: April 24, 2001.
Daniel T. Fantozzi,
Director, Office of Environmental Policy, Department of State.

[FR Doc. 01-10665 Filed 4-27-01; 8:45 am]

BILLING CODE 4710-06-P